UNITED STATES INSTITUTE OF PEACE

Notice of Meeting

Date/Time: Friday, October 23, 2020 (10:00 a.m.-12:00 p.m.)

Location: Virtual Board Meeting Information: Join by video: https://usip-org.zoomgov.com/j/1609287446?pwd=VG1NMU1tSXhOVDVuZ1ByeXgwZjFxZz09 Dial-in option: +1-646-828-7666. Meeting ID: 160 928 7446/Password: 379836.

Status: Open Session—Portions may be closed pursuant to Subsection (c) of Section 552(b) of Title 5, United States Code, as provided in subsection 1706(h)(3) of the United States Institute of Peace Act, Public Law 98-525.

Agenda: October 23, 2020 Board Meeting: Chairman's Report; Vice Chairman's Report; Acting President's Report; Reports/Updates from the Front Lines: Afghan Peace Process, Red Sea Arena, Strategic Stability and Security, and Iraq; Approval of Minutes; Reports from USIP Building, Program, Audit & Finance, Search, and Security Committees.

Contact: Megan O'Hare, Chief of Staff: mohare@usip.org

Dated: October 9, 2020.
Megan O'Hare,
Chief of Staff.

[FR Doc. 2020-22878 Filed 10-14-20; 8:45 am]

BILLING CODE P